DEPARTMENT OF COMMERCE

International Trade Administration

A-570-822

Notice of Amended Final Results in Accordance With Court Decision: Helical Spring Lock Washers from the People's Republic of China

AGENCY: Import Administration, International Trade Administration, Department of Commerce.

EFFECTIVE DATE: December 5, 2007.

SUMMARY: On July 16, 2007, the Court of Appeals for the Federal Circuit (“CAFC”) affirmed the decision of the U.S. Court of International Trade (“CIT”) to sustain the Department of Commerce's (“the Department”) remand redetermination in the tenth administrative review of the antidumping duty order on helical spring lock washers from the People's Republic of China (“PRC”), for the period October 1, 2002, through September 30, 2003. In its redetermination, the Department assigned Hangzhou Spring Washer Co., Ltd. (also known as Zhejiang Wanxin Grp (ZWG)) (“HSW”) a dumping margin of 19.48 percent, rather than the 0.00 percent calculated in the final results of the 2002-2003 antidumping duty administrative review of helical spring lock washers from the PRC. As there is now a final and conclusive court decision in this case, the Department is amending the final results of the 2002-2003 antidumping duty administrative review of helical spring lock washers from the PRC. FOR FURTHER INFORMATION CONTACT: Marin Weaver or Charles Riggle, AD/CVD Operations, Office 8, Import Administration, International Trade Administration, U.S. Department of Commerce, 14th Street and Constitution Avenue, NW, Washington, DC 20230; telephone: (202) 482-2336 or (202) 482-0650, respectively.

SUPPLEMENTARY INFORMATION:

Background

On May 17, 2005, the Department published its final results of antidumping duty administrative review. See Certain Helical Spring Lock Washers from the People's Republic of China: Final Results of Antidumping Duty Administrative Review, 70 FR 28274 (May 17, 2005) (“Final Results”), and accompanying Issues and Decisions Memorandum for the administrative review covering October 1, 2002, through September 30, 2003. In its Final Results, the Department calculated an individual rate for the sole respondent, HSW. The petitioner in this case, Shakeproof Assembly Components Division of Illinois Tool Works Inc. (“Shakeproof”), filed a court challenge (Court No. 05-00404) to the Department's Final Results. In the CIT proceeding, the Department moved for a voluntary remand, which the court granted. In the remand redetermination, Commerce revisited the methodology employed in the valuation of zinc plating services and determined to rely solely on the value submitted by petitioner, Shakeproof. This resulted in a recalculation of HSW's dumping margin to 19.48 percent. See Final Results of Redetermination Pursuant to United States Court of International Trade Remand Order Shakeproof Assembly Components Division of Illinois Tool Works, Inc., Plaintiff, v. United States, Defendant, and Hangzhou Spring Washer Co., Ltd., Defendant - Intervenor (June 2, 2006). On August 25, 2006, the CIT sustained the final remand redetermination made by the Department. See Shakeproof Assembly v. United States, Slip Op. 2006-129, 2006 Ct. Intl. Trade LEXIS 132 (CIT Aug. 25, 2006).

On October 23, 2006, HSW appealed the CIT's decision. Consistent with the Federal Circuit's decision in Timken Company v. United States, 893 F.2d 337, 341 (Fed. Cir. 1990), on November 30, 2006, the Department published a “Notice of Court Decision Not in Harmony with Final Results of Administrative Review,” which continued suspension of liquidation of the subject merchandise until there was a “final and conclusive” decision in this case (71 FR 69204). On July 16, 2007, the CAFC issued a judgment (without an opinion) affirming the CIT's decision upholding Commerce's remand redetermination. The CAFC's final judgment was not in harmony with the Department's Final Results. Appeals of this decision were due by October 15, 2007, and HSW did not file an appeal of the CAFC's decision.

Amended Final Results

As the litigation in this case has concluded, the Department is amending the Final Results. The revised dumping margin in the amended final results is as follows:

Exporter | Margin
Hangzhou Spring Washer Co., Ltd. (also known as Zhejiang Wanxin Grp (ZWG)) | 19.48 percent

The Department intends to issue appropriate assessment instructions to U.S. Customs and Border Protection 15 days after publication of this notice, and cash deposit instructions to revise the cash deposit rate for the company listed above, effective as of the publication date of this notice.

This notice is published in accordance with sections 735(d) and 777(i) of the Tariff Act of 1930, as amended.

Dated: November 23, 2007.
Stephen J. Claeys,
Acting Assistant Secretary for Import Administration.

[FR Doc. E7-23572 Filed 12-4-07; 8:45 am]

BILLING CODE 3510-DS-S